DEPARTMENT OF DEFENSE

Office of the Secretary

[Transmittal No. 24-17]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-17, Policy Justification, and Sensitivity of Technology.

Dated: January 16, 2025.
Stephanie J. Bost,
Alternate OSD Federal Register Liaison Officer, Department of Defense.

BILLING CODE 6001-FR-P

BILLING CODE 6001-FR-C

Transmittal No. 24-17

Notice of Proposed Issuance of Letter of Offer Pursuant to Section 36(b)(1) of the Arms Export Control Act, as amended

(i) Prospective Purchaser: Government of North Macedonia

(ii) Total Estimated Value:

Major Defense Equipment * | $ 45.6 million
Other | $ 65.4 million
TOTAL | $111.0 million

Funding Source: National Funds and Foreign Military Financing

(iii) Description and Quantity or Quantities of Articles or Services under Consideration for Purchase: Foreign Military Sales case MK-B-UCC was below congressional notification threshold at $78.54 million ($23.16 million in MDE) and included a total of seventy-one Joint Light Tactical Vehicles (JLTV), consisting of forty-eight (48) M1278A1/A2 JLTV Heavy Gun Carriers (HGC); seventeen (17) M1280A1/A2 JLTV General Purpose (GP); and six (6) M1281A1/A2 JLTV Close Combat Weapons Carriers (CCWC). The Government of North Macedonia has requested that the case be amended to include an additional eighteen (18) M1278A1/A2 JLTV HGC and seven (7) M1280A1/A2 JLTV GP. This amendment will cause the case to exceed the notification threshold, and thus notification of the entire program is required. The above notification requirements are combined as follows:

Major Defense Equipment (MDE):

Sixty-six (66) M1278A1/A2 JLTV HGC

Twenty-four (24) M1280A1/A2 JLTV GP

Six (6) M1281A1/A2 JLTV CCWC

Non-MDE:

Also included are Common Remotely Operated Weapon Stations (CROWS); CROWS spare parts; CROWS Basic Issue Items (BII)—Boresight Kit Components; CROWS packaging and handling; CROWS installation and training; M2A1 machine guns with support equipment; MK19 Mod III with support equipment; M240B machine guns with support equipment; MK93 weapon mount; Driver's Vision Enhancer (DVE); Maintenance Tool Set Toughbook Laptops; high frequency radios; communications equipment; Defense Advanced Global Positioning System Receivers (DAGR) with Selective Availability Anti-Spoofing Modules (SAASM) and support equipment; JLTV kits; Vehicle Integration kits; LCD 4.0; spare and repair parts; Supplemental Common Tool Kit (SCTK); Special Tools and Test Equipment (STTE); Objective Gunner Protection Kit (OGPK); Javelin Integration Bracket Kit; turret rings and hatches; technical manuals and publications; New Equipment Training (NET); United States (U.S.) Government and contractor technical engineering, logistics, and personnel services; JLTV Field Service Representative support; JLTV integration support, and other related elements of logistics and program support.

(iv) Military Department: Army (MK-B-UCC)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 8, 2024

* as defined in Section 47(6) of the Arms Export Control Act.

POLICY JUSTIFICATION

North Macedonia—Joint Light Tactical Vehicles

The Government of North Macedonia has requested to buy an additional eighteen (18) M1278A1/A2 Joint Light Tactical Vehicle (JLTV) Heavy Gun Carriers (HGC); and seven (7) M1280A1/A2 Joint Light Tactical Vehicle (JLTV) General Purpose (GP) that will be added to a previously implemented case whose value was under the congressional notification threshold. The original Foreign Military Sales (FMS) case, valued at $78.54 million ($23.16 million in MDE), included a total of seventy-one (71) JLTVs, consisting of forty-eight (48) M1278A1/A2 JLTVs HGC; seventeen (17) M1280A1/A2 JLTVs GP; and six (6) M1281A1/A2 JLTVs Close Combat Weapons Carrier (CCWC). This notification is for a combined total of sixty-six (66) M1278A1/A2 JLTV HGC; twenty-four (24) M1280A1/A2 JLTV GP; and six (6) M1281A1/A2 JLTV CCWC. Also included are Common Remotely Operated Weapon Stations (CROWS); CROWS spare parts; CROWS Basic Issue Items (BII)—Boresight Kit Components; CROWS packaging and handling; CROWS installation and training; M2A1 machine guns with support equipment; MK19 Mod III with support equipment; M240B machine guns with support equipment; MK93 weapon mount; Driver's Visor Enhancer (DVE); Maintenance Tool Set Toughbook Laptops; high frequency radios; communications equipment; Defense Advanced Global Positioning System Receivers (DAGR) with Selective Availability Anti-Spoofing Modules (SAASM) and support equipment; JLTV kits; Vehicle Integration kits; LCD 4.0; spare and repair parts; Supplemental Common Tool Kit (SCTK); Special Tools and Test Equipment (STTE); Objective Gunner Protection Kit (OGPK); Javelin Integration Bracket Kit; turret rings and hatches; technical manuals and publications; New Equipment Training (NET); U.S. Government and contractor technical engineering, logistics, and personnel services; JLTV Field Service Representative support; JLTV integration support, and other related elements of logistics and program support. The estimated total cost is $111 million.

This proposed sale will support the foreign policy and national security of the U.S. by improving the security of a NATO Ally that is an important force for political and economic stability in Europe.

The proposed sale will enhance North Macedonia's capability to meet current and future threats by providing a credible force that is capable of deterring adversaries and participating in NATO operations. The proposed sale will support its goal of improving national and territorial defense as well as interoperability with U.S. and NATO forces. North Macedonia will have no difficulty absorbing this equipment into its armed forces.

The proposed sale of this equipment and support will not alter the basic military balance in the region.

The principal contractors will be Oshkosh Defense, Oshkosh, WI; AM General, Auburn Hills, MI; Leonardo DRS, West Plains, MO, and L3Harris, Melbourne, FL. There are no known offset agreements proposed in connection with this potential sale.

Implementation of this proposed sale will require temporary duty travel of three to five U.S. Government representatives to North Macedonia for a duration of up to five years. Implementation of this proposed sale will require contractor representatives for support equipment fielding and training.

There will be no adverse impact on U.S. defense readiness as a result of this proposed sale.

Transmittal No. 24-17

Notice of Proposed Issuance of Letter of Offer Pursuant to Section 36(b)(1) of the Arms Export Control Act

Annex

Item No. vii

(vii) Sensitivity of Technology:

1. The Joint Light Tactical Vehicle (JLTV) program is a light tactical vehicle designed to replace the U.S. military's aging High Mobility Multipurpose Wheeled Vehicle fleet. It was designed to close the existing gap in payload, performance, and protection with our adversaries during multi-domain operations. It is an optimal choice for a spectrum of light tactical vehicle missions anywhere in the world. All JLTV mission variants include a strong balance of protection, maneuverability, speed, reliability, and combat service support capability that far surpasses any similar vehicle in its weight class today.

2. The JLTV is designed to be a system of systems. The JLTV uses a modular design that allows it to integrate with various material and equipment used by U.S. forces in tactical operations.

3. The JLTV has inherent armor built into the base vehicle. It is what the U.S. Government calls A-Kit armor. This A-Kit inherent armor provides both opaque and transparent armor solutions to provide a 360-degree azimuthal (i.e., all around) protection that includes an elevated fire level of protection from a spectrum of kinetic energy and small arms fire threats. The JLTV also has other survivability enhancements, notably automatic fire extinguishing protection and structural rollover protection of 150 percent of the vehicle's Ground Vehicle Weight Rating.

4. The AN/VAS-5 Driver's Vision Enhancer is compact thermal camera providing armored vehicle drivers with day or nighttime visual awareness in clear or reduced vision (fog, smoke, dust) situations. The system provides the driver a 180-degree viewing angle using a high-resolution infrared sensor and image stabilization to reduce the effect of shock and vibration. The viewer and monitor are ruggedized for operation in tactical environments.

5. The Common Remote Operated Weapon Station (CROWS) is an externally mounted weapon mounting and control system that allows the gunner to remain inside the vehicle's protected armor while firing a variety of crew-served weapons. The CROWS provides remote day and night sighting and ballistic control capacity, enabling first-burst engagement of targets at maximum effective weapon range while on the move.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that North Macedonia can provide the same degree of protection for the sensitive technology being released as the U.S. Government. This sale is necessary in furtherance of the U.S. foreign policy and national security objectives outlined in the Policy Justification.

9. All defense articles and services listed in this transmittal are authorized for release and export to the Government of North Macedonia.

[FR Doc. 2025-01493 Filed 1-21-25; 8:45 am]

BILLING CODE 6001-FR-P